DEPARTMENT OF HEALTH AND HUMAN SERVICES

Centers for Disease Control and Prevention (CDC)

[CDC-2014-0006, Docket Number NIOSH-273]

Notice of Draft Document for Public Comment

AGENCY: National Institute for Occupational Safety and Health (NIOSH) of the Centers for Disease Control and Prevention (CDC), Department of Health and Human Services (HHS).

ACTION: Notice of draft document for public comment.

SUMMARY: The National Institute for Occupational Safety and Health of the Centers for Disease Control and Prevention announces the availability of a draft method to be published in the NIOSH Manual of Analytical Methods (NMAM) entitled “Method 8324: 3-Bromopropionic acid in urine; A metabolite of 1-bromopropane” now available for public comment. To view the notice and related materials, visit http://www.regulations.gov and enter CDC-2014-0006 in the search field and click “Search.”

Public comment period: Comments must be received June 10, 2014.

ADDRESSES: You may submit comments, identified by CDC-2014-0006 and Docket Number NIOSH-273, by either of the following two methods:

• Federal eRulemaking Portal: https://www.regulations.gov Follow the instructions for submitting comments.

• Mail: NIOSH Docket Office, Robert A. Taft Laboratories, 4676 Columbia Parkway, MS C-34, Cincinnati, Ohio 45226.

Instructions: All information received in response to this notice must include the agency name and docket number [CDC-2014-0006; NIOSH-273]. All relevant comments received will be posted without change http://www.regulations.gov, including any personal information provided. All information received in response to this notice will also be available for public examination and copying at the NIOSH Docket Office, 4676 Columbia Parkway, Room 109, Cincinnati, OH 45226.

SUPPLEMENTARY INFORMATION:

Background: The NIOSH Manual of Analytical Methods (NMAM) was first published in 1974 and currently contains over 300 methods that can be used by the occupational safety and health community to measure worker exposures. 1-Bromopropane is an industrial solvent often used as a substitute for a number of chlorofluorocarbon solvents which were withdrawn from use because of their possible damaging effects to the ozone layer. 3-Bromopropionic acid is a human metabolite of 1-bromopropane and a proposed biomarker of exposure. An accurate and precise method was developed for the detection and quantitation of 3-bromopropionic acid in human urine. This method was published in the literature (B'Hymer CB, Cheever KL [2004]. J Chromatogr B 802:361-366). The method was validated by a second laboratory and is proposed for inclusion in NMAM's 5th Edition.

FOR FURTHER INFORMATION CONTACT: Dale Shoemaker, Ph.D., NIOSH DART, 4676 Columbia Parkway MS R-7, Cincinnati, OH 45226. (513) 841-4523.

Dated: April 7, 2014.
John Howard,
Director, National Institute for Occupational Safety and Health, Centers for Disease Control and Prevention.

[FR Doc. 2014-08141 Filed 4-10-14; 8:45 am]

BILLING CODE 4163-19-P